DEPARTMENT OF ENERGY

Federal Energy Regulatory Commission

[Docket No. PF16-1-000]

Algonquin Gas Transmission, LLC; Notice of Intent To Prepare an Environmental Impact Statement for the Planned Access Northeast Project, Request for Comments on Environmental Issues, and Notice of Public Scoping Meetings

The staff of the Federal Energy Regulatory Commission (FERC or Commission) will prepare an environmental impact statement (EIS) for the planned Access Northeast Project (ANE Project). This EIS will discuss the potential impacts on the environment resulting from Algonquin Gas Transmission, LLC's (Algonquin) construction and operation of interstate natural gas transmission and storage facilities in New Jersey, New York, Connecticut, Rhode Island, and Massachusetts. The Commission will use this EIS in its decision-making process to determine whether the Project is in the public convenience and necessity.

This notice, which is being sent to the Commission's current environmental mailing list describes the process the Commission will use to gather input from the public and interested agencies on the ANE Project. The Review Process flow chart in Appendix 1 also illustrates public input opportunities.¹ State and local government representatives should notify their constituents of this planned Project and encourage them to comment on their areas of concern.

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Comments on the ANE Project may be submitted in written form or verbally. The Public Participation section of this notice describes how to submit written comments. To ensure that written comments are properly recorded and that staff has sufficient time to consider them, please send these comments so that the Commission receives them in Washington, DC on or before May 30, 2016. The Commission's staff will also consider comments received after this date, but we encourage you to file your comments within the identified comment period. Verbal comments can be given at the public scoping meetings described in the Public Participation section below.

If you sent comments on the ANE Project to the Commission before November 17, 2015, you will need to resend those comments, attention Docket No. PF16-1-000, to ensure they are considered as part of this proceeding.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement and the Project is approved, the pipeline company could initiate condemnation proceedings where compensation would be determined in accordance with state law.

To help potentially affected landowners and other interested parties better understand the Commission and its environmental review process, the “For Citizens” section of the FERC Web site (www.ferc.gov) provides information about getting involved in FERC jurisdictional projects, and a citizens' guide entitled “An Interstate Natural Gas Facility On My Land? What Do I Need to Know?” This guide addresses a number of frequently asked questions, including the use of eminent domain and how to participate in the Commission's proceedings.

Public Participation

Submitting comments can make a difference. Your comments should focus on potential environmental impacts, measures to avoid or lessen these impacts, and reasonable alternatives. These comments will help the Commission's staff determine what issues need to be evaluated in the EIS and focus the analysis in the EIS on the important environmental issues.

For your convenience, there are four methods you can use to submit your comments to the Commission. The commission will provide equal consideration to all comments received, whether filed in written form or provided verbally. In all instances, please reference the Project docket number (PF16-1-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can file your comments electronically using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public scoping meetings its staff will conduct in the project area, scheduled as follows.

Date and time | Location
Monday, May 16, 2016, 6:30 p.m. Eastern Time | Southbury Fire Department, 461 Main Street South, Southbury, CT 06488.
Monday, May 16, 2016, 6:30 p.m. Eastern Time | Mansfield Middle School, 205 Spring Hill Road, Storrs, CT 06268.
Tuesday, May 17, 2016, 6:30 p.m. Eastern Time | Sleepy Hollow High School, 210 North Broadway, Sleepy Hollow, NY 10591.
Wednesday, May 18, 2016, 6:30 p.m. Eastern Time * | Stacey Middle School, 66 School Street, Milford, MA 01757.
Wednesday, May 18, 2016, 6:30 p.m. Eastern Time | Ford Middle School, 708 Middle Road, Acushnet, MA 02743.
Thursday, May 19, 2016, 6:30 p.m. Eastern Time | Abigail Adams Middle School, 89 Weymouth Street, East Weymouth, MA 02189.
* Due to venue availability, the Stacy Middle School in Milford, Massachusetts will not be accessible until 6:00 p.m. Please plan accordingly. Meeting attendees will be asked to wait outside.

The purpose of these meetings is to provide the public an opportunity to learn more about the Commission's environmental review process and to verbally comment on the ANE Project. Affected landowners and other interested parties concerned about the ANE Project are encouraged to attend these meetings and to give their comments on the issues they believe should be addressed in the EIS. Individuals wishing to provide comments on Algonquin's Incremental Market and Atlantic Bridge Projects should file their comments in the respective FERC administrative records (CP14-96-000 and CP16-9-000).

Individuals wishing to comment at a meeting may begin registering to speak one hour prior to each meeting.² Representatives from Algonquin will also be present before each meeting to answer questions about the ANE Project. The meetings will begin promptly at 6:30 p.m. To ensure everyone has a chance to be heard, the time allotted for speakers may be limited to three minutes. If a time limit is implemented, it will be strictly enforced. Commenters should prepare their remarks accordingly. All comments will be transcribed and entered into the Commission's administrative record. Due to potential large turnouts in Acushnet and Weymouth, Massachusetts, two court reporters will be present at each meeting to transcribe comments. One court reporter will be present in the main room and another will be present in an adjacent room for those who wish to speak and not attend the entire meeting. The meetings will end once all speakers have provided their comments or at 10 p.m., whichever comes first.

² Due to venue availability, the Stacy Middle School in Milford, Massachusetts will not be accessible until 6:00 p.m. Speaker registration will begin at that time. Please plan accordingly.

Summary of the Planned Project

Over the past several years Algonquin has expanded its existing natural gas transmission system in the Northeastern United States to meet demand as it arises in the region. In response to growing demand and interest from shippers, Algonquin plans to modify its existing system in New Jersey, New York, Connecticut, Rhode Island, and Massachusetts. If constructed, the ANE Project would be capable of providing up to 925 million cubic feet per day of natural gas at various delivery points on the existing Algonquin pipeline system. The planned ANE Project facilities are described below. The general locations of the Project facilities are shown in Appendix 2.

Pipeline Facilities

• Replacement of approximately 45.0 miles of existing 26-inch-diameter pipeline with 42-inch-diameter pipeline as follows:

○ 1.2 miles in Rockland County, New York (Hanover Take-up and Relay ³);

³ Take-up and relay refers to a construction method by which an existing pipeline is removed and replaced with a new pipeline.

○ 12.7 miles in Westchester and Putnam Counties, New York (Stony Point Take-up and Relay);

○ 17.6 miles in Fairfield and New Haven Counties, Connecticut (Southeast Take-up and Relay; and

○ 13.5 miles in New Haven and Hartford Counties, Connecticut (Oxford Take-up and Relay.

• Extensions of existing pipeline loops; ⁴ approximately 22.7 miles of additional 36-inch-diameter pipeline and 25.9 miles of additional 30-inch-diameter pipeline as follows:

⁴ A pipeline loop is a segment of pipe constructed parallel to an existing pipeline to increase capacity.

○ 13.3 miles of 36-inch-diameter pipeline in Hartford, Middlesex, and Tolland Counties, Connecticut (Cromwell Loop);

○ 9.4 miles of 36-inch-diameter pipeline in Windham County, Connecticut (Chaplin Loop);

○ 21.7 miles of 30-inch-diameter pipeline in Norfolk County, Massachusetts (Q-1 Loop); and

○ 4.2 miles of 30-inch-pipeline in Norfolk County, Massachusetts (I-8 Loop).

• Installation of approximately 26.8 miles of new 16-inch-diameter lateral pipeline in Norfolk and Worcester Counties, Massachusetts.

• Installation of approximately 2.9 miles of new 24-inch-diameter lateral pipeline in Bristol County, Massachusetts.

Algonquin would also need to construct pig ⁵ launcher and receiver facilities and new mainline valves.

⁵ A “pig” is a tool that the pipeline company inserts into and pushed through the pipeline for cleaning the pipeline, conducting internal inspections, or other purposes.

Compressor Stations and Other Pipeline-Related Aboveground Facilities

Algonquin plans to modify six existing compressor stations, expand one currently proposed compressor station, construct one new compressor station, modify seven existing metering and regulating (M&R) stations, and construct two new M&R stations. The modifications to the six existing compressor stations would be located in Rockland and Putnam Counties, New York, New Haven, Middlesex, and Windham Counties Connecticut, and Providence County, Rhode Island. The expansion of the currently proposed compressor station would be located in Norfolk County, Massachusetts and the new compressor station would be located in Bristol County, Massachusetts. These eight compressor stations would add a total of 165,560 horsepower to Algonquin's pipeline system.

The modifications to the seven existing Algonquin M&R stations would occur in New Jersey, New York, Connecticut, and Massachusetts to accept the new gas flows associated with the Project. The new M&R stations would be constructed in Bristol and Worcester Counties Massachusetts.

Liquefied Natural Gas (LNG) Storage Facility

The planned LNG Storage Facility would be located on a 210-acre site in Acushnet, Massachusetts adjacent to an existing LNG peak-shaving facility (the existing facility would not be affected). The facility would include; two full containment LNG storage tanks with a total combined capacity of 6.8 billion standard cubic feet (84.6 million gallons), feed gas pretreatment systems, liquefaction and regasification capabilities, a new permanent access road, a flare or other venting system yet to be determined, electrical service facilities, and a refrigerant compressor driver with appropriate noise suppression and emission controls. This facility would be connected to Algonquin's existing natural gas transmission system by a new approximately 2.86 mile pipeline.

Land Requirements for Construction

Construction of the planned facilities would disturb about 1,866 acres of land including forested, open, agricultural, industrial/commercial, and residential lands. Of the lands affected, about 1,590 acres for the pipeline facilities, 118 acres for the compressor stations, 150 acres for the LNG Facility, and 8 acres for the M&R stations. About 1,100 acres of land that would be affected by pipeline construction activities has already been disturbed by existing pipelines or other utilities. Similarly, about 95 acres of land that would be affected by the compressor stations has already been disturbed. Following construction, Algonquin would retain about 494 acres of new, permanent easement outside of its current operating footprint. This amount includes approximately 327 acres of permanent easement for the new pipeline right-of-way, 20 acres for the new compressor station, 150 acres for the LNG Facility, and a total of 2 acres for the M&R stations.

The EIS Process

The National Environmental Policy Act (NEPA) requires the Commission to take into account the environmental impacts that could result from an action whenever it considers the issuance of a Certificate of Public Convenience and Necessity under Section 7 of the Natural Gas Act. NEPA also requires us ⁶ to discover and address concerns the public may have about proposals. This discovery process is commonly referred to as “scoping”. The main goal of the scoping process is to focus the analysis in the EIS on the important environmental issues. By this notice, the Commission requests public comments on the scope of the issues to address in the EIS. All comments received will be considered during the preparation of the EIS, and addressed as appropriate.

⁶ “We,” “us,” and “our” refer to the environmental staff of the Commission's Office of Energy Projects.

In the EIS we will discuss impacts that could occur as a result of the construction, operation, and maintenance of the planned Project under these general headings:

• Geology and soils;

• land use;

• water resources, fisheries, and wetlands;

• cultural resources;

• vegetation and wildlife;

• air quality and noise;

• threatened and endangered species;

• public safety and reliability; and

• cumulative impacts.

Staff, in cooperation with other federal agencies, has already begun an evaluation of alternatives to the ANE Project, including pipeline route alternatives, compressor station equipment and locations, and LNG Storage Facility sites. This alternatives analysis will be included in the EIS along with any recommendations we may have on how to avoid, minimize, and/or mitigate impacts on the various resource areas.

Although no formal application has been filed, we have already initiated our NEPA review under the Commission's pre-filing process. The purpose of the pre-filing process is to encourage early involvement of interested stakeholders and to identify and resolve issues before the FERC receives an application. As part of our pre-filing review, we have contacted federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section of this notice.

With this notice, we are asking agencies with jurisdiction by law and/or special expertise with respect to the environmental issues related to this Project to formally cooperate with us in the preparation of the EIS.⁷ Agencies that would like to request cooperating agency status should follow the instructions for filing comments provided under the Public Participation section of this notice.

⁷ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested federally recognized Indian tribes, and the public on the Project's potential effects on historic properties.⁸ We will define the Project-specific Area of Potential Effects (APE) in consultation with the SHPOs as the Project develops. On natural gas facility projects, the APE at a minimum encompasses all areas subject to ground disturbance (examples include construction right-of-way, contractor/pipe storage yards, compressor stations, and access roads). Our EIS for this project will document our findings on the impacts on historic properties and summarize the status of consultations under section 106.

⁸ The Advisory Council on Historic Preservation regulations are at Title 36, Code of Federal Regulations, Part 800. Those regulations define historic properties as any prehistoric or historic district, site, building, structure, or object included in or eligible for inclusion in the National Register of Historic Places.

Currently Identified Environmental Issues

Based on our preliminary review of the project; information provided by Algonquin; and public comments filed in the Commission's administrative record and submitted to staff at the applicant-sponsored open houses, we have identified several issues that we think deserve attention. This preliminary list of issues may change based on your comments and our ongoing environmental analysis. These issues are:

• Project reliability, pipeline and LNG storage tank integrity;

• public safety;

• impacts on property values;

• environmental justice;

• compressor station emissions and noise;

• impacts on land use; and

• impacts on groundwater.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities and construction workspaces, and anyone who submits comments on the Project. We will update the environmental mailing list as the analysis proceeds to ensure that we send the information related to this environmental review to all individuals, organizations, and government entities interested in and/or potentially affected by the planned Project.

When we publish and distribute the EIS, copies will be sent to the environmental mailing list for public review and comment. If you would prefer to receive a paper copy of the document instead of the CD version or would like to remove your name from the mailing list, please return the attached Information Request (Appendix 3).

Becoming an Intervenor

In addition to involvement in the EIS scoping process, once Algonquin files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-filing” link on the Commission's Web site. Please note that the Commission will not accept requests for intervenor status at this time. You must wait until the Commission receives a formal application for the Project, which is currently anticipated to be sometime in November 2016.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF16-1). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: April 29, 2016.
Kimberly D. Bose,
Secretary.

[FR Doc. 2016-10667 Filed 5-5-16; 8:45 am]

BILLING CODE 6717-01-P